DEPARTMENT OF HEALTH AND HUMAN SERVICES

Centers for Disease Control and Prevention

[30Day-17-17NW]

Agency Forms Undergoing Paperwork Reduction Act Review

The Centers for Disease Control and Prevention (CDC) has submitted the following information collection request to the Office of Management and Budget (OMB) for review and approval in accordance with the Paperwork Reduction Act of 1995. CDC previously published a “Proposed Data Collection Submitted for Public Comment and Recommendations” notice on April 27, 2017 to obtain comments from the public and affected agencies. CDC received one comment related to the previous notice. The purpose of this notice is to allow an additional 30 days for public comments.

Written comments and suggestions from the public and affected agencies concerning the proposed collection of information are encouraged. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

A Novel Framework for Structuring Industry-Tuned Public-Private Partnerships and Economic Incentives for U.S. Health Emergency Preparedness and Response—New—Office of Public Health Preparedness and Response (OPHPR), Centers for Disease Control and Prevention (CDC).

Background and Brief Description

Despite the important role of public-private partnerships in supporting the US's public health preparedness and response mission, many partnership efforts are not successful due to poorly aligned incentives or lack of awareness of external market factors. There is little research or information on private sector incentive structures and partnership opportunities and barriers specific to public health preparedness and response. This study will evaluate the effectiveness of public-private partnership incentives from the perspective of private sector industries within the public health preparedness and response space.

Study activities include the following: (1) Identification of public-private partnership incentives and target industries for public health preparedness and response; (2) interviews with industry leaders (in person or via telephone) to identify related public health emergency preparedness activities and partnership opportunities and barriers; (3) survey of private sector organization managers using on-line technology (Qualtrics) on key issues and attractiveness of partnership opportunities and incentives; and (4) framework development to identify partnership target organizations, opportunities, and incentives to promote public health emergency preparedness capabilities.

CDC proposes to collect information from the private industry leaders in the public health preparedness and response space to accomplish this goal.

The information collection project is composed of two parts: (1) Interviews and (2) an on-line general survey. The targeted interviews will seek respondents in the following eight sectors: Pharmaceutical/life sciences (n=8), health IT/mobile (n=8), retailers/distributors (n=6), academia/research organization (n=6), hospital/healthcare provider (n=5), health insurance (n=4), logistics/transportation (n=4), and charitable organization/foundation (n=4). The interview questions and the information collected will vary significantly across the different sectors.

The survey portion of the information collection consists of a larger survey administered to 200 individuals to reach a total sample population of 100 (assuming a 50% response rate). CDC will conduct the interviews and administer the survey only one time to each individual respondent. CDC plans to conduct interviews and surveys within six months after OMB approval.

Members of the research team will conduct the interviews. CDC will administer the surveys using the secure online software Qualtrics, and respondents will receive an email with a unique link that will direct them to the Qualtrics survey platform. The research team will then transfer data to CDC's preferred Secure File Transfer Protocol (SFTP) client for secure storage and access. After this transfer, CDC will destroy all copies of the data that reside outside of the SFTP. Only the research team will have access to the interview transcripts and survey responses that will link responses to personally identifiable information. Researchers will use locked file cabinets to store securely, any printed or hand-written documents containing personal identifiable information. Once scanned or otherwise transferred into electronic files (which will also be transferred to the SFTP client), researchers will appropriately destroy the information.

Only the research team will have access to the SFTP, which will require the user to enter a host address, username, password and port number. Any information removed from the SFTP client to be shared with outside parties will be presented in aggregated and de-identified form, unless otherwise compelled by law. CDC will retain and destroy all records in accordance with the applicable CDC Records Control Schedule.

OPHPR is requesting an approval period of one year to collect this information. There is no cost to respondents other than the time to participate. The total estimated annual burden hours is 70 hours. A summary of annualized burden hours is below.

Estimated Annualized Burden Hours
Type of respondents | Form name | Number of respondents | Number of responses per respondent | Average burden per response (in hours)
Private Sector Organization Senior Leader | Interview Plan | 45 | 1 | 1
Private Sector Organization Manager | Survey Plan | 100 | 1 | 15/60

Leroy A. Richardson,
Chief, Information Collection Review Office, Office of Scientific Integrity, Office of the Associate Director for Science, Office of the Director, Centers for Disease Control and Prevention.

[FR Doc. 2017-20508 Filed 9-25-17; 8:45 am]

BILLING CODE 4163-18-P